DEPARTMENT OF THE INTERIOR

National Park Service

[N6672; NPS-WASO-NAGPRA-NPS0041411; PPWOCRADN0-PCU00RP14.R50000]

Notice of Intended Disposition: U.S. Army Corps of Engineers, Tulsa District, Tulsa, OK

AGENCY: National Park Service, Interior.

ACTION: Notice.

SUMMARY: In accordance with the Native American Graves Protection and Repatriation Act (NAGPRA), the U.S. Army Corps of Engineers, Tulsa District (USACE Tulsa) intends to carry out the disposition of human remains and associated funerary objects removed from Federal or Tribal lands to the lineal descendants, Indian Tribe, or Native Hawaiian organization with priority for disposition in this notice.

DATES: Disposition of the human remains and associated funerary objects in this notice may occur on or after January 16, 2026. If no claim for disposition is received by December 17, 2026, the human remains and associated funerary objects in this notice will become unclaimed human remains and associated funerary objects.

ADDRESSES: Send written claims for disposition of the human remains and associated funerary objects in this notice to Jacqueline Rodgers, U.S. Army Corps of Engineers, Tulsa District, 2488 East 81st Street, Tulsa, OK 74137, email jacqueline.rodgers@usace.army.mil.

SUPPLEMENTARY INFORMATION: This notice is published as part of the National Park Service's administrative responsibilities under NAGPRA. The determinations in this notice are the sole responsibility of the USACE Tulsa, and additional information on the human remains and associated funerary objects in this notice, including the results of consultation, can be found in the related records. The National Park Service is not responsible for the identifications in this notice.

Abstract of Information Available

Based on the information available, human remains representing, at least, one individual have been reasonably identified. The 90 associated funerary objects are one lot of unidentified metal, six cutlery fragments, one iron buckle, two gunflints, three metal tools, one lot of lead ammunition, two lots of plain whiteware, one lot of transferprint whiteware, one lot of blue hand-painted whiteware, one lot of flow blue feather-edged whiteware, one lot of annularware, one ceramic toy doll plate, one lot of green hand-blown glass, one lot of aqua hand-blown glass, one transferprint whiteware child's cup, one clay ball, three pieces of petrified wood, one lot of worked glass, one lot of iron nails, two metal buttons, two pipe fragments, two arrow shaft straighteners, three pieces of burned slate, one lot of biface fragments, four scrapers, three lots of flakes, one lot of cores, four lots of non-cultural stone, one lot of grinding stones, one chopper, one lot of daub, one lot of shell, eight lots of faunal remains, 15 lots of plain Native ceramics, one lot of incised Native ceramics, and ten lots of McIntosh Roughened Native ceramics. On May 28, 1993, human remains representing one individual were recovered with a large surface scatter of artifacts along the shoreline of Eufaula Lake in McIntosh County, Oklahoma. All human remains and objects were recovered from the surface and no subsurface investigations were attempted. No additional information was recorded about this recovery. This location lies within the Muscogee (Creek) Nation reservation.

Determinations

The USACE Tulsa has determined that:

• The human remains described in this notice represent the physical remains of one individual of Native American ancestry.

• The 90 objects described in this notice are reasonably believed to have been placed intentionally with or near individual human remains at the time of death or later as part of the death rite or ceremony.

• The Muscogee (Creek) Nation has priority for disposition of the human remains and associated funerary objects described in this notice.

Claims for Disposition

Written claims for disposition of the human remains and associated funerary objects in this notice must be sent to the appropriate official identified in this notice under ADDRESSES. If no claim for disposition is received by December 17, 2026, the human remains and associated funerary objects in this notice will become unclaimed human remains and associated funerary objects. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains and associated funerary objects in this notice may occur on or after January 16, 2026. If competing claims for disposition are received, the USACE Tulsa must determine the most appropriate claimant prior to disposition. Requests for joint disposition of the human remains and associated funerary objects are considered a single request and not competing requests. The USACE Tulsa is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: November 24, 2025.
Melanie O'Brien,
Manager, National NAGPRA Program.

[FR Doc. 2025-23023 Filed 12-16-25; 8:45 am]

BILLING CODE 4312-52-P